TENNESSEE VALLEY AUTHORITY

Sunshine Act Meeting Notice; Meeting No. 15-02

The TVA Board of Directors will hold a public meeting on May 7, 2015, at the Von Braun Center's East Hall 2, 700 Monroe Street, Huntsville, Alabama. The public may comment on any agenda item or subject at a public listening session which begins at 8:30 a.m. (CT). Following the end of the public listening session, the meeting will be called to order to consider the agenda items listed below. On-site registration will be available until 15 minutes before the public listening session begins at 8:30 a.m. (CT). Preregistered speakers will address the Board first. TVA management will answer questions from the news media following the Board meeting.

Status: Open.

Agenda

Chair's Welcome

Old Business

Approval of minutes of the February 12, 2015, Board Meeting

New Business

1. Report from President and CEO

2. Report of the External Relations Committee

A. Kingston—Emory River Road Properties

3. Report of the Audit, Risk, and Regulation Committee

4. Report of the People and Performance Committee

5. Report of the Finance, Rates, and Portfolio Committee

A. Generation Fleet Planning—Widows Creek

6. Report of the Nuclear Oversight Committee

A. Watts Bar 2 Update

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: April 30, 2015.
Sherry A. Quirk,
General Counsel.

[FR Doc. 2015-10581 Filed 5-1-15; 4:15 pm]

BILLING CODE 8120-08-P